INTERNATIONAL TRADE COMMISSION

[Investigation No. 332-481]

Industrial Biotechnology: Development and Adoption by the U.S. Chemical and Biofuel Industries

AGENCY: United States International Trade Commission.

ACTION: Institution of investigation.

EFFECTIVE DATE: November 27, 2006.

SUMMARY: Following receipt on November 2, 2006, of a request from the Committee on Finance of the U.S. Senate (Committee) under section 332(g) of the Tariff Act of 1930 (19 U.S.C. 1332(g)), the U.S. International Trade Commission (Commission) instituted investigation No. 332-481, Industrial Biotechnology: Development and Adoption by the U.S. Chemical and Biofuel Industries.

Background: As requested by the Committee, the Commission will institute an investigation under section 332(g) with respect to the competitive conditions affecting certain industries that are developing and adopting new biotechnology processes and products. The Commission will transmit its report to the Committee by July 2, 2008.

As requested by the Committee, the Commission's report will focus—to the extent practicable—on firms in the U.S. chemical industry that are developing bio-based products (e.g., fibers and plastics) and renewable chemical platforms, as well as U.S. producers of liquid biofuels. The Commission will—

1. Describe and compare government policies in the United States and key competitor countries throughout the world relating to the development of products by these industries;

2. Analyze the extent of business activity in these industries, including, but not limited to, trends in production, financial performance, investment, research and development, and impediments to development and trade;

3. Examine factors affecting the development of bio-based products, including liquid biofuels, and renewable chemical platforms being developed by the U.S. chemical industry, including, but not limited to, globalization of supply chains, capital investment sources, strategic alliances, intellectual property rights, and technology transfer mechanisms;

4. Determine, to the extent feasible, how the adoption of industrial biotechnology processing and products impacts the productivity and competitiveness of firms in these industries; and

5. Assess how existing U.S. government programs may affect the production and utilization of agricultural feedstocks for liquid biofuels as well as bio-based products and renewable chemical platforms being developed by the U.S. chemical industry.

FOR FURTHER INFORMATION, CONTACT: Project Leader, David Lundy (202-205-3439 or david.lundy@usitc.gov)

Deputy Project Leader, Elizabeth R. Nesbitt (202-205-3355 or elizabeth.nesbitt@usitc.gov)

Deputy Project Leader, Laura Polly (202-205-3408 or laura.polly@usitc.gov)

Industry-specific information may be obtained from the above persons. For more information on legal aspects of the investigation, contact William Gearhart of the Commission's Office of the General Counsel at 202-205-3091 or william.gearhart@usitc.gov. The media should contact Margaret O'Laughlin, Office of External Relations at 202-205-1819 or margaret.olaughlin@usitc.gov. Hearing impaired individuals are advised that information on this matter can be obtained by contacting the TDD terminal on 202-205-1810. General information concerning the Commission may also be obtained by accessing its Internet server (http://www.usitc.gov). The public record for these investigations may be viewed on the Commission's electronic docket (EDIS-ONLINE) at http://edis.usitc.gov/hvwebex.

Public Hearing: A public hearing in connection with this investigation is scheduled to begin at 9:30 a.m. on April 24, 2007, at the U.S. International Trade Commission Building, 500 E Street, SW., Washington, DC. Requests to appear at the public hearing should be filed with the Secretary no later than 5:15 p.m., April 3, 2007, in accordance with the requirements in the “Submissions” section below. In the event that, as of the close of business on April 3, 2007, no witnesses are scheduled to appear, the hearing will be canceled. Any person interested in attending the hearing as an observer or nonparticipant may call the Secretary (202-205-2000) after April 3, 2007, to determine whether the hearing will be held.

Request for Certain Information: The Commission is interested in receiving information regarding the five topics in the “Background” section of this notice above, and any other relevant information relating to the development and adoption of industrial biotechnology products and processes by the U.S. chemical and biofuels industries, and requests that interested parties provide such information in their hearing testimony and pre- and posthearing briefs and other submissions, to the extent they can.

Statements and Briefs: In lieu of or in addition to participating in the hearing, interested parties are invited to submit written statements or briefs concerning this investigation in accordance with the requirements in the “Submissions” section below. Any pre-hearing briefs or statements should be filed not later than 5:15 p.m., April 10, 2007; the deadline for filing post-hearing briefs or statements is 5:15 p.m., May 2, 2007.

Submissions: All written submissions, including requests to appear at the hearing, statements, and briefs, should be addressed to the Secretary, United States International Trade Commission, 500 E Street, SW., Washington, DC 20436. All written submissions must conform with the provisions of section 201.8 of the Commission's Rules of Practice and Procedure (19 CFR 201.8); any submission that contains confidential business information must also conform with the requirements of section 201.6 of the Commission's Rules of Practice and Procedure (19 CFR 201.6). Section 201.8 of the rules require that a signed original (or a copy designated as an original) and fourteen (14) copies of each document be filed. In the event that confidential treatment of the document is requested, at least four (4) additional copies must be filed, in which the confidential information must be deleted. Section 201.6 of the rules requires that the cover of the document and the individual pages be clearly marked as to whether they are the “confidential” or “nonconfidential” version, and that the confidential business information be clearly identified by means of brackets. All written submissions, except for confidential business information, will be made available for inspection by interested parties.

In its request letter, the Committee stated that it intends to make the Commission's report available to the public in its entirety, and asked that the Commission not include any confidential business or national security confidential information in the report it sends to the Committee. The report that the Commission sends to the Committee will not contain any such information. Any confidential business information received by the Commission in this investigation and used in preparing the report will not be published in a manner that would reveal the operations of the firm supplying the information.

Persons with mobility impairments who will need special assistance in gaining access to the Commission should contact the Secretary at 202-205-2000.

By order of the Commission.
Issued: November 28, 2006.
Marilyn R. Abbott,
Secretary to the Commission.

[FR Doc. E6-20374 Filed 11-30-06; 8:45 am]

BILLING CODE 7020-02-P